DEPARTMENT OF COMMERCE

National Oceanic and Atmospheric Administration

RIN 0648-XW36

Endangered Species; File No. 1596

AGENCY: National Marine Fisheries Service (NMFS), National Oceanic and Atmospheric Administration (NOAA), Commerce.

ACTION: Notice; receipt of application for modification

SUMMARY: Notice is hereby given that NMFS Southwest Fisheries Science Center (SWFSC) [Responsible Party: Lisa Ballance], 3333 N. Torrey Pines Ct., La Jolla, CA 92037, has requested a modification to scientific research Permit No. 1596-02.

DATES: Written, telefaxed, or e-mail comments must be received on or before June 11, 2010.

ADDRESSES: The modification request and related documents are available for review by selecting “Records Open for Public Comment” from the Features box on the Applications and Permits for Protected Species (APPS) home page, https://apps.nmfs.noaa.gov/, and then selecting File No. 1596-03 from the list of available applications. These documents are also available for review upon written request or by appointment in the following offices:

Permits, Conservation and Education Division, Office of Protected Resources, NMFS, 1315 East-West Highway, Room 13705, Silver Spring, MD 20910; phone (301) 713-2289; fax (301) 713-0376; and

Southwest Region, NMFS, 501 West Ocean Blvd., Suite 4200, Long Beach, CA 90802-4213; phone (562) 980-4001; fax (562) 980-4018.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular modification request would be appropriate.

Comments may also be submitted by facsimile at (301) 713-0376, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 1596-03.

FOR FURTHER INFORMATION CONTACT: Amy Hapeman or Kate Swails, (301) 713-2289.

SUPPLEMENTARY INFORMATION: The subject modification to Permit No. 1596-02, issued on July 29, 2009 (74 FR 38585), is requested under the authority of the Endangered Species Act of 1973, as amended (16 U.S.C. 1531 et seq.) and the regulations governing the taking, importing, and exporting of endangered and threatened species (50 CFR 222-226).

Permit No. 1596-02 authorizes the SWFSC to capture, measure, weigh, blood and tissue sample, photograph, flipper and PIT tag, fat biopsy, ultrasound, satellite tag, and attach a VHF/TDR/sonic tag/video system, VHR/TDR/sonic tag/GPS unit, or VHR/TDR/sonic tag/GPS/video camera system to leatherback (Dermochelys coriacea) sea turtles during research activities conducted off the western coast of the continental United States. Animals with the video camera system may be re-approached to collect the unit and then sampled, tagged, and have another video camera unit attached. The SWFSC requests authorization to use a direct tag attachment method in place of previously authorized harness attachments. These tags would provide valuable information on leatherback movements and behavior in the Pacific Ocean between their foraging areas and nesting beaches. No increase in the number of animals taken is requested. The research would continue to occur in waters off the coast of the western United States through February 1, 2012.

Dated: May 6, 2010.
P. Michael Payne,
Chief, Permits, Conservation and Education Division, Office of Protected Resources, National Marine Fisheries Service.

[FR Doc. 2010-11336 Filed 5-11-10; 8:45 am]

BILLING CODE 3510-22-S